DEPARTMENT OF COMMERCE

International Trade Administration

[A-570-010, C-570-011]

Crystalline Silicon Photovoltaic Products From the People's Republic of China: Notice of Rescission of Changed Circumstances Reviews

AGENCY: Enforcement and Compliance, International Trade Administration, Department of Commerce.

SUMMARY: The Department of Commerce (Commerce) is rescinding the changed circumstances reviews (CCRs) of the antidumping duty (AD) and countervailing duty (CVD) orders on crystalline silicon photovoltaic products (solar products) from the People's Republic of China (China) with respect to certain off-grid portable small panels.

DATES: Applicable June 8, 2021.

FOR FURTHER INFORMATION CONTACT: Mark Hoadley, Enforcement and Compliance, AD/CVD Operations, Office VII, International Trade Administration, U.S. Department of Commerce, 1401 Constitution Avenue NW, Washington, DC 20230; telephone: (202) 482-3148.

SUPPLEMENTARY INFORMATION:

Background

On July 28, 2020, Commerce published a notice of initiation of CCRs, and consideration of revocation of the Orders, in part, with respect to certain off-grid portable small panels, pursuant to a request by Maodi Solar Technology (Dongguan) Co. Ltd. (Maodi Solar).¹ On September 3, 2020, Commerce published the Preliminary Results of the CCRs, preliminarily determining to revoke the Orders, in part, with respect to certain off-grid portable small panels.² Commerce invited parties to comment on the Preliminary Results in accordance with 19 CFR 351.309(c)(1)(ii).³ No party submitted comments on the Preliminary Results.

¹ See Crystalline Silicon Photovoltaic Products from the People's Republic of China: Notice of Initiation of Changed Circumstances Reviews, and Consideration of Revocation of the Antidumping and Countervailing Duty Orders in Part, 85 FR 45373 (July 28, 2020); see also Certain Crystalline Silicon Photovoltaic Products from the People's Republic of China: Antidumping Duty Order; and Amended Final Affirmative Countervailing Duty Determination and Countervailing Duty Order, 80 FR 8592 (February 18, 2015) (Orders).

² See Crystalline Silicon Photovoltaic Products from the People's Republic of China: Preliminary Results of Changed Circumstances Reviews, and Intent to Revoke Antidumping and Countervailing Duty Orders in Part, 85 FR 54993 (September 3, 2020) (Preliminary Results).

³ See Preliminary Results, 85 FR at 54996.

On April 19, 2021, Commerce extended the deadline for the final results of the CCRs by 45 days until June 2, 2021.⁴

⁴ See Memorandum, “Crystalline Silicon Photovoltaic Products from the People's Republic of China: Extension of Deadline for Final Results of Changed Circumstances Reviews, and Revocation of the Antidumping and Countervailing Duty Orders in Part,” dated April 19, 2021.

On May 14, 2021, Maodi Solar informed Commerce that it “no longer wishes to pursue this action, and hereby withdraws its request for a finding of changed circumstances and partial revocation.” ⁵ No party submitted comments on Maodi Solar's withdrawal of its CCR requests.

⁵ See Maodi Solar's Letter, “Crystalline Silicon Photovoltaic Products from the Peoples' Republic of China; Withdrawal of Request for Changed Circumstances Review,” dated May 14, 2021.

Rescission of Reviews

Although it does not specifically reference CCRs, 19 CFR 351.213(d)(1) provides that Commerce will rescind an administrative review if the party requesting the review withdraws its request within 90 days of the date of publication of the notice of initiation of the requested review. Commerce's practice has been to apply the 90-day deadline to requests for CCRs. However, 19 CFR 351.213(d)(1) also provides that Commerce may extend the 90-day time limit for withdrawing the request for an administrative review if we determine that it is reasonable to do so. In this case, Maodi Solar requested a rescission of this review on May 14, 2021, which is beyond 90 days from the date of initiation. However, we note that no party has objected to Maodi Solar's rescission request. Additionally, Commerce has not expended significant resources conducting this review. Therefore, we determine that it is reasonable to extend the 90-day time limit in this instance. Consequently, Commerce has accepted Maodi Solar's rescission request in this case as timely and is now rescinding the CCRs. U.S. Customs and Border Protection will continue to suspend entries of subject merchandise at the appropriate cash deposit rate for all entries of solar products from China.

Notification Regarding Administrative Protective Orders

This notice also serves as a reminder to parties subject to the administrative protective order (APO) of their responsibility concerning the disposition of proprietary information disclosed under an APO in accordance with 19 CFR 351.305(a)(3). Timely written notification of the return or destruction of APO materials, or conversion to judicial protective order, is hereby requested. Failure to comply with the regulations and terms of an APO is a violation which is subject to sanction.

This notice is issued and published in accordance with sections 751(b)(1) and 777(i) of the Tariff Act of 1930, as amended.

Dated: June 2, 2021.
James Maeder,
Deputy Assistant Secretary for Antidumping and Countervailing Duty Operations.

[FR Doc. 2021-11921 Filed 6-7-21; 8:45 am]

BILLING CODE 3510-DS-P